DEPARTMENT OF COMMERCE

National Oceanic and Atmospheric Administration

Western Pacific Fishery Management Council; Public Meetings

AGENCY: National Marine Fisheries Service (NMFS), National Oceanic and Atmospheric Administration (NOAA), Commerce.

ACTION: Notice of public meetings.

SUMMARY: The Western Pacific Fishery Management Council (Council) will convene a meeting of the Risk of Overfishing (denoted by P*) Working Group (P* WG) for the Main Hawaiian Island Deep 7 Bottomfish Fishery. The P* WG will finalize the scores for the different P* dimensions and criteria, from the last working group meeting and recommend an appropriate risk of overfishing levels. This will be the basis for the specification of Acceptable Biological Catch (ABC) levels for the Scientific and Statistical Committee (SSC) to consider.

DATES: The P* WG meeting will be on June 4, 2015. For specific times and agendas, see SUPPLEMENTARY INFORMATION.

ADDRESSES: The P* WG meeting will be held at the Council office, 1164 Bishop Street, Suite 1400, Honolulu, HI 96813; telephone: (808) 522-8220.

FOR FURTHER INFORMATION CONTACT: Kitty M. Simonds, Executive Director; telephone: (808) 522-8220.

SUPPLEMENTARY INFORMATION: Public comment periods will be provided. The order in which agenda items are addressed may change. The meetings will run as late as necessary to complete scheduled business.

Schedule and Agenda for the P* WG Meeting

June 4, 2015—1 p.m.-5 p.m.

1. Introductions

2. Recap of previous meeting

3. Review of the P* Dimensions and Criteria

a. Assessment information

b. Uncertainty characterization

c. Stock status

d. Productivity and susceptibility

4. Revisit Productivity and Susceptibility scores

5. Finalizing the P* scores

6. Scoping discussion on changes to the P* dimensions and criteria

7. General Discussion

8. Public comment

9. Summary of scores and P* recommendations

Special Accommodations

The meeting is physically accessible to people with disabilities. Requests for sign language interpretation or other auxiliary aids should be directed to Kitty M. Simonds, (808) 522-8220 (voice) or (808) 522-8226 (fax), at least 5 days prior to the meeting date.

Authority: 16 U.S.C. 1801 et seq.

Dated: May 13, 2015.
Tracey L. Thompson,
Acting Deputy Director, Office of Sustainable Fisheries, National Marine Fisheries Service.

[FR Doc. 2015-11954 Filed 5-15-15; 8:45 am]

BILLING CODE 3510-22-P